ENVIRONMENTAL PROTECTION AGENCY

[EPA-HQ-OPP-2008-0274; FRL-8381-2]

FIFRA Scientific Advisory Panel; Notice of Change of Public Meeting Dates

AGENCY: Environmental Protection Agency (EPA).

ACTION: Notice.

SUMMARY: The Agency is issuing this notice to extend a meeting of the Federal Insecticide, Fungicide, and Rodenticide Act (FIFRA) Scientific Advisory Panel by one half-day. The meeting, originally scheduled for September 16-18, 2008, was announced in the Federal Register of July 9, 2008 (73 FR 39292) (FRL-8373-5).

DATES: The meeting will now be held September 16-19, 2008, from approximately 9 a.m. to 5:30 p.m., eastern standard time, with the meeting concluding by noon Friday, September 19, 2008.

ADDRESSES: The meeting will be held at the Holiday Inn—Rosslyn at Key Bridge, 1900 North Fort Myer Dr., Arlington, VA 22209; telephone number: (703) 807-2000.

FOR FURTHER INFORMATION CONTACT: Sharlene R. Matten, Designated Federal Officer (DFO), Office of Science Coordination and Policy (7201M), Environmental Protection Agency, 1200 Pennsylvania Ave., NW., Washington, DC 20460-0001; telephone number: (202) 564-0130; fax number: (202) 564-8382; e-mail address: matten.sharlene@epa.gov.

SUPPLEMENTARY INFORMATION: All other information provided in the July 9, 2008 Federal Register public meeting notice remains unchanged.

List of Subjects

Environmental protection, Pesticides and pests.

Dated: August 25, 2008.
Gary E. Timm,
Acting Director, Office of Science Coordination and Policy.

[FR Doc. E8-20122 Filed 8-26-08; 4:15 pm]

BILLING CODE 6560-50-S